DEPARTMENT OF ENERGY

Federal Energy Regulatory Commission

[Docket No. CP25-37-000]

Notice of Schedule for the Preparation of an Environmental Assessment for the Transwestern Pipeline Company, LLC WT-0 Compressor Station Project

On December 20, 2024, Transwestern Pipeline Company, LLC (Transwestern) filed an application in Docket No. CP25-37-000 requesting a Certificate of Public Convenience and Necessity pursuant to Section 7(c) of the Natural Gas Act to construct, own, operate, and maintain a new compressor station in Chaves County, New Mexico. This WT-0 Compressor Station Project (Project) would provide about 80,000 million British thermal units per day of new firm transportation capacity, including receipts of natural gas in Transwestern's West Texas Lateral Central Zone and deliveries on the Transwestern Panhandle Lateral.

On January 8, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1742295781.

Schedule for Environmental Review

Issuance of EA—August 1, 2025

90-day Federal Authorization Decision Deadline ²—October 30, 2025

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The WT-0 Compressor Station Project would consist of the following facilities in Chaves County, New Mexico:

• a new WT-0 Compressor Station including one new 13,220-horsepower Solar Mars 90 natural gas turbine-driven compressor;

• metering facilities, including an inlet filter separator and fuel gas measurement skid;

• tie-in to Transwestern's existing 24-inch-diameter dual lateral pipeline in its existing corridor; and

• a new, permanent access road off Harriet Road extending into the compressor station site.

Background

On February 3, 2025, the Commission issued a Notice of Scoping Period Requesting Comments on Environmental Issues for the Proposed WT-0 Compressor Station Project (Notice of Scoping). The Notice of Scoping was sent to affected landowners; federal, state, and local government agencies; ³ elected officials; environmental and public interest groups; Native American tribes; other interested parties; and local libraries and newspapers. In response to the Notice of Scoping, the Commission received comments from the Santa Clara Pueblo and the New Mexico Department of Game and Fish. All substantive comments will be addressed in the EA.

³ The new compressor station would be sited entirely on land managed by the U.S. Bureau of Land Management (BLM). The BLM has agreed to be a cooperating agency for the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-37), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 19, 2025.
Debbie-Anne A. Reese,
Secretary.

[FR Doc. 2025-05080 Filed 3-25-25; 8:45 am]

BILLING CODE 6717-01-P